DEPARTMENT OF THE INTERIOR

Bureau of Land Management

[WO-310-1310-02-PB-24 1A]

OMB Approval Number 1004-0185; Information Collection Submitted to the Office of Management and Budget for Review Under the Paperwork Reduction Act

The Bureau of Land Management (BLM) has submitted the proposed collection of information listed below to the Office Management and Budget (OMB) for approval under the provisions of the Paperwork Reduction (44 U.S.C. Chapter 3501 et seq.). On August 21, 2001, the BLM published a notice in the Federal Register (66 FR 43899) requesting comments on the collection. The comment period ended October 22, 2001. No comments were received. You may obtain copies of the proposed collection of information and related explanatory material by contacting the BLM Information Clearance Officer at the telephone number listed below.

OMB is required to respond to this request within 60 days but may respond after 30 days. For maximum consideration, your comments and suggestions on the requirement should be made within 30 days directly to the Office of Management and Budget, Interior Department Desk Officer (1004-0185), Office of Information and Regulatory Affairs, Washington, D.C. 20503. Please provide a copy of your comments to the Bureau Information Collection Clearance Officer (WO-630) 1849 C St., NW., Mail Stop 401 LS, Washington, DC. 20240.

Nature of Comments: We specifically request your comments on the following:

1. Whether the collection of information is necessary for the proper functioning of the Bureau of Land Management, including whether the information will have practical utility;

2. The accuracy of our estimates of the information collection burden, including the validity of the methodology and assumptions we use;

3. Ways to enhance the quality, utility, and clarity of the information collected; and

4. How to minimize the information collection burden on those who are to respond, including the use of appropriate automated, electronic, mechanical, or other technological collection techniques or other forms of information technology.

Title: Onshore Oil and Gas Drainage Protection, 43 CFR 3100 and 3162.

OMB Approval Number: 1004-0185.

Abstract: Federal and Indian (except Osage) oil and gas lessees and operating rights owners must monitor drilling activities of offending wells that may result in drainage situations of Federal oil and gas mineral resources. Respondents are oil and gas companies, lessees, operators, operating rights owners, and individuals.

Form Number: None.

Frequency: On occasion; nonrecurring.

Description of Respondets: Jessees and operating rights owners.

Estimated Completion Time: For ease of reference, this table summarizes the burden items in this information collection request:

Type of analysis | Number of analyses and reporting per respondent | Hours
Preliminary | 1,000@ 2 hours | 2,000
Detailed | 100@ 24 hours | 2,400
Additional | 10@ 20 hours | 200
Total | 1,110 | 4,600

Annual Responses: 1,110.

Annual Burden Hours: 4,600.

Bureau Clearance Officer: Michael H. Schwartz (202) 452-5033.

Dated: April 5, 2002.
Michael H. Schwartz,
Bureau of Land Management, Information Collection Clearance Officer.

[FR Doc. 02-10689 Filed 4-30-02; 8:45 am]

BILLING CODE 4310-84-M